DEPARTMENT OF TRANSPORTATION

Federal Railroad Administration

[Docket Number FRA-2003-15010]

Petition for Waiver of Compliance

In accordance with Part 211 of Title 49 Code of Federal Regulations (CFR), this document provides the public notice that by a document dated June 24, 2013, Canadian Pacific Railway (CP) has petitioned the Federal Railroad Administration (FRA) for an extension of a waiver of compliance from certain provisions of the Federal railroad safety regulations contained at 49 CFR Part 241, United States Locational Requirements for Dispatching of United States Rail Operations. FRA assigned the petition Docket Number FRA-2003-15010.

In its petition, CP requests an extension of its existing waiver of compliance from 49 CFR 241.7(c), to allow the continuation of Canadian dispatching of that part of the Windsor Subdivision located in the United States, extending between Windsor, ON, Canada, and Detroit, MI, approximately 1.8 miles, as defined in Appendix A to Part 241. This request formalizes the request for waiver requirement contained in Part 241, specifically Section 241.7(c)(3), which refers to territory that was previously grandfathered in the exceptions to extraterritorial dispatching contained in FRA's interim final rule (see 66 FR 63942, December 11, 2001).

In this case, the track segment identified in the interim final rule remains the same as identified above. All trains operated into the United States travel very short distances to an interchange point with a U.S. railroad and are always under the control of a single crew. All dispatching is conducted in English, and all units of measure are the same as those used in the U.S. Because of the very short distances, all train operations in the United States are under the control of a single dispatching desk, located in CP's Network Management Center in Montreal, QC, Canada. CP operates approximately six to eight trains a day over this segment.

The trackage is operated under a Centralized Traffic Control system and consists of two main tracks for the entire 1.8-mile distance. Movements are governed by the Canadian Rail Operating Rules and CP's Timetable and Special Instructions. CP's train dispatchers are covered under their company drug and alcohol policies and their dispatching office is under 24-hour security. Transport Canada Rail Safety Directorate has legislative safety jurisdiction over CP, in accordance with the provisions contained in the Railway Safety Act, across all federally regulated railways operating in Canada.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 23, 2013 will be considered by FRA before final action is taken. Comments received after that date will be considered as far as practicable.

Anyone is able to search the electronic form of any written communications and comments received into any of our dockets by the name of the individual submitting the comment (or signing the comment, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-19334 Filed 8-8-13; 8:45 am]

BILLING CODE 4910-06-P